DEPARTMENT OF STATE

[Public Notice: 9622]

Exchange Visitor Program—Use of Forms DS-2019 in the Summer Work Travel Program

AGENCY: Department of State.

ACTION: Re-allocation of Forms DS-2019 to designated Summer Work Travel Sponsors.

SUMMARY: The Department of State (the Department) will permit current sponsors in the Summer Work Travel (SWT) program category to apply to the Department for a program adjustment by allocation of Forms DS-2019 that were previously allocated to SWT sponsors in business for the full 2011 calendar year, but which no longer operate in the SWT program category. These forms are not currently allocated to any sponsor. If allocated, the total number of SWT program participants would remain within the aggregate actual total SWT participant program size for 2011 (i.e., the overall program participant level and designation moratorium established by the notice published by the Department in 2011 (Public Notice 7677, 76 FR 68808).

DATES: Effective September 1, 2016.

FOR FURTHER INFORMATION CONTACT: G. Kevin Saba, Director, Office of Policy and Program Support, Bureau of Educational and Cultural Affairs, U.S. Department of State, SA-5, Floor 5, 2200 C Street NW., Washington, DC 20522; or email at JExchanges@state.gov.

SUPPLEMENTARY INFORMATION: The Department administers the Exchange Visitor Program pursuant to the Mutual Educational and Cultural Exchange Act of 1961, as amended (22 U.S.C. 2451 et. seq.), also known as the Fulbright-Hays Act (the Act). The purpose of the Act is to increase mutual understanding between the people of the United States and the people of other countries, including through educational and cultural exchanges. The Department's implementing regulations for the Exchange Visitor Program are set forth at 22 CFR part 62.

On November 7, 2011, the Office of Private Sector Exchange published Public Notice 7677, which provided that, until further notice, SWT program sponsors in business for the full 2011 calendar year would not be permitted to expand their number of program participants beyond their actual total 2011 participant program size (a cap), and that no new applications from prospective sponsors for SWT program designation would be accepted (a moratorium).

In effect, the cap limited the SWT program's aggregate size to the 2011 participant level, which was 109,187 participants, and the moratorium fixed the 50 designated sponsors active in the 2011 SWT program. The purpose of the cap and moratorium was to give the Department time to review and take next steps in reforming the SWT program.

Since 2011, the Department has implemented significant reforms of the SWT program, reflected in several rulemakings, increases in Department staff to monitor SWT program implementation in the field, compliance reviews, and periodic Department-sponsor dialogue sessions.

Between 2011 and 2015, the number of designated SWT program sponsors operating in the SWT program decreased from 50 to 41. In 2015, 12,959 fewer exchange visitors could participate in the SWT program than the 109,187 participants that constituted the aggregate actual total program participant size in 2011.

This notice informs SWT program sponsors that they may apply to adjust their number of program participants beyond their respective, sponsor-specific 2011 participant program size. A designated sponsor in good standing (one without imposed sanctions in the SWT program category), and currently active in the SWT program, may apply in writing to the Department's Office of Designation, on or after September 1, 2016, for program adjustment pursuant to 22 CFR 62.12(d).

22 CFR 62.12(d)(2) provides that a request for program adjustment must include certain required information as well as any other information requested by the Department. The Department requests that, pursuant to § 62.12(d)(2), an application for SWT program adjustment include information about the sponsor's:

(1) Ability to meet emerging foreign policy priorities through increased people-to-people exchanges;

(2) need to meet demand while maintaining an equitable balance between summer (northern hemisphere) and winter (southern hemisphere) cycles of the SWT program; or

(3) ability to address exigent diplomatic needs that can be served by increased people-to-people exchanges.

The Department has the sole discretion to determine the number of Forms DS-2019 to be issued to a sponsor. See 22 CFR 62.12(d)(1). The overall number of program participants in the SWT program remains limited by the SWT program's aggregate size at the 2011 participant level established by Public Notice 7677. No new applications from prospective sponsors for SWT program designation will be accepted at this time.

Dated: June 27, 2016.
G. Kevin Saba,
Director, Office of Policy and Program Support, Bureau of Educational and Cultural Affairs.

[FR Doc. 2016-15831 Filed 7-1-16; 8:45 am]

BILLING CODE 4710-05-P